DEPARTMENT OF LABOR

Employment and Training Administration

[TA-W-41,976]

Black and Decker, North American Power Tools, Including Leased Workers of Employment Control, Inc., Barrett Business Services, Inc. and Pro-Temps Staffing, Easton, MD; Amended Certification Regarding Eligibility To Apply for Worker Adjustment Assistance

In accordance with section 223 of the Trade Act of 1974 (19 U.S.C. 2273) the Department of Labor issued a Certification of Eligibility to Apply for Worker Adjustment Assistance on October 10, 2002, applicable to workers of Black and Decker, North American Power Tools, Easton, Maryland engaged in the production of corded power tools. The notice was published in the Federal Register on November 5, 2002 (67 FR 67422). The certification was amended on January 8, 2003 by the request of the State agency to include all leased workers of Employment Control, Inc. working at Black and Decker, North American Power Tools, Easton, Maryland. The notice was published in the Federal Register on January 15, 2003 (68 FR 2076).

Recently it has come to the Department's attention that the workers are not separately identifiable by product line (corded and cordless power tools).

Also, at the request of the petitioners and the company, the Department reviewed the certification for workers of the subject firm. Information provided by the company shows that leased workers of Barrett Business Services, Inc. and Pro-Temps Staffing were employed at Black and Decker, North American Power Tools to produce corded and cordless power tools.

Based on these findings, the Department is amending the certification to include leased workers of Barrett Business Services, Inc. and Pro-Temps Staffing employed at Black and Decker, North American Power Tools, Easton, Maryland.

Therefore, it is the intent of the Department's certification to include all workers of Black and Decker, North American Power Tools and all leased workers engaged in the production of corded and cordless power tools who were adversely affected by increased imports.

The amended notice applicable to TA-W-41,976 is hereby issued as follows:

All workers of Black and Decker, North American Power Tools, Easton, Maryland, and leased workers of Employment Control, Inc., Barrett Business Services, Inc. and Pro-Temps Staffing engaged in employment related to the production of corded and cordless power tools and administrative support workers of Employment Control, Inc. working at Black and Decker, North American Power Tools, Easton, Maryland who became totally or partially separated from employment on or after August 1, 2001, through October 10, 2004, are eligible to apply for adjustment assistance under Section 223 of the Trade Act of 1974.

Signed at Washington, DC, this 14th day of February, 2003.
Elliott S. Kushner,
Certifying Officer, Division of Trade Adjustment Assistance.

[FR Doc. 03-13819 Filed 6-2-03; 8:45 am]

BILLING CODE 4510-30-P